DEPARTMENT OF EDUCATION

Career and Technical Education Program—Promoting Rigorous Career and Technical Education Programs of Study

Catalog of Federal Domestic Assistance (CFDA) Number: 84.051C.

AGENCY: Office of Vocational and Adult Education, Department of Education.

ACTION: Notice of final priority, requirements, and selection criteria.

SUMMARY: The Assistant Secretary for Vocational and Adult Education announces a final priority, requirements, and selection criteria for the Promoting Rigorous Career and Technical Education Programs of Study program. The Assistant Secretary may use this priority and these requirements and selection criteria for a competition using fiscal year (FY) 2009 funds and competitions in later years. We take this action to promote and improve State and local development and implementation of rigorous career and technical education (CTE) programs of study (POSs).

DATES: Effective Date: This priority and these requirements and selection criteria are effective September 7, 2010.

FOR FURTHER INFORMATION CONTACT: Laura Messenger, U.S. Department of Education, 400 Maryland Avenue, SW., room 11028, Potomac Center Plaza, Washington, DC 20202-7241. Telephone: 202-245-7840 or by e-mail: laura.messenger@ed.gov.

If you use a telecommunications device for the deaf (TDD), call the Federal Relay Service (FRS), toll free, at 1-800-877-8339.

SUPPLEMENTARY INFORMATION:

Purpose of Program: The Promoting Rigorous Career and Technical Education Programs of Study program is authorized under section 114(c)(1) of the Carl D. Perkins Career and Technical Education Act of 2006 (the Act). Under this section, the Secretary is authorized to carry out research, development, dissemination, evaluation and assessment, capacity building, and technical assistance with regard to CTE programs under the Act. The purpose of this program is to use 10 key components based on the “Program of Study Design Framework” (Framework) ¹ to promote and improve State and local development and implementation of CTE POSs that link secondary and postsecondary education, combine academic and career and technical education in a structured sequence of courses that progress from broad foundational skills to occupationally specific courses (e.g., the States' Career Clusters ²), and offer students the opportunities to earn postsecondary credits for courses taken in high school that lead to a postsecondary credential, certificate, or degree.

¹ The Framework is available on the Department's Perkins Collaborative Resource Network (PCRN) Web site at: http://cte.ed.gov/nationalinitiatives/rposdesignframework.cfm.

² Information regarding the Career Clusters may be accessed at the following Web site: http://www.careerclusters.org/index.php.

Program Authority: 20 U.S.C. 2324(c)(1).

On May 27, 2010, we published a notice of proposed priorities, requirements, and selection criteria (NPP) for this program in the Federal Register (75 FR 29732). That notice contained background information and our reasons for proposing the particular priority, requirements, and selection criteria for this program.

There are differences between the NPP and this notice of final priority, requirements, and selection criteria (NFP) as discussed in the Analysis of Comments and Changes section elsewhere in this notice.

Public Comment: In response to our invitation in the May 27, 2010 NPP, 9 parties submitted comments.

Generally, we do not address technical, editorial, and other minor changes, or suggested changes the law does not authorize us to make under the applicable statutory authority. In addition, we do not address general comments that raised concerns not directly related to the proposed priority, requirements, or selection criteria.

Analysis of Comments and Changes: An analysis of the comments and of any changes we have made to the priority, requirements, or selection criteria since publication of the NPP follows.

Comment: One commenter recommended that language be added to the selection criteria regarding professional development for teachers and administrators on the use of assessment data for POS program and instructional improvement.

Discussion: We agree with the commenter and are revising the selection criteria accordingly. The use of valid and reliable technical skills assessments is one of the 10 Framework components required of funded POSs. Because the purpose of such assessments is to provide ongoing information on the extent to which students are attaining necessary knowledge and skills, we agree that administrators, teachers, and faculty would benefit from professional development on how to use assessment data for POS instructional and program improvement.

Changes: We have revised selection criterion (a), State capacity to implement a rigorous program of study, by adding an additional sub-criterion as paragraph (a)(3)(iii)(E) to clarify that applications will be evaluated, in part, based on the extent to which they propose professional development that will assist administrators, teachers, and faculty to use assessment data for POS program and instructional improvement.

Comment: Several commenters stated that the secondary education component of a rigorous program of study should not be limited to providing only introductory, foundation level CTE courses and recommended that the POS secondary component also include programs that provide more occupationally specific content courses. Similarly, one commenter recommended that the State, in its approval or development of POSs, be allowed to determine the educational level at which occupational content is taught.

Discussion: We agree with the commenters that additional flexibility is needed. While we believe it is important that POS course sequences progress from broad foundational knowledge and skills to more occupationally specific courses, it was not our intent to exclude effective POSs that, in addition to providing introductory, foundation courses at the secondary education level, may also provide occupationally specific courses at that level.

Changes: We have revised the language in selection criterion (a), State capacity to implement a rigorous program of study, in paragraph (a)(3)(vi)(B) by removing references to the secondary and postsecondary levels in order to clarify that as part of a State's POS, introductory, foundation courses as well as occupationally specific courses may be provided at the secondary level.

Comment: One commenter asked the Department to clarify whether States would be required to implement all 10 Framework components in order to qualify for a grant or if the goal of this program would be to provide an incentive for States to move toward adoption and implementation of the Framework.

Discussion: We agree that the requirement to implement all 10 Framework components needed to be clarified and have added language under the Selected program of study requirement to indicate that States must implement all 10 Framework components in order to qualify for a grant under this program.

Changes: We have revised the Selected Program of Study requirement to clarify that, to be eligible for funding under this program, an applicant must demonstrate that it has selected for implementation a POS that is built and sustained with all of the 10 Framework components.

Comment: One commenter recommended that, rather than requiring participating local education agencies (LEAs) to have all 10 Framework components in place by the beginning of year 2 of the project, participating LEAs only be required to have 8 of the 10 Framework components in place by the beginning of year 2 of the project and all 10 Framework components in place by the end of year 2.

Discussion: Under the Local Implementation requirement, the LEAs chosen for participation in the POS project must have the capacity to have all 10 Framework components in place either at the start of the POS project or no later than the beginning of year 2 of the project. This requirement is necessary because States receiving grant awards under this program are required to evaluate local implementation of their selected POSs and the effectiveness of each of the 10 Framework components, either at the start of the POS project or no later than beginning in year 2 of the project. We cannot extend the timetable for States because the design and implementation of the participating LEAs' POSs must be consistent with the 10 Framework components and we need three full years of data to assess the impact on students of participation in the POS. We will provide ongoing technical assistance throughout the project to ensure the rigor of all funded POSs and consistency in their design and implementation at the local level in order to collect three years of valid and reliable data on the effectiveness of POSs using the 10 Framework components.

Changes: To clarify the timetable for implementation of the 10 Framework components, we have added language to the Local Implementation requirement and to selection criterion (c), Local implementation plan, to reflect that the participating LEAs must have the capacity to implement the selected POS and the 10 Framework components, either at the start of the POS project or no later than the beginning of year 2 of the project.

Comment: Several commenters expressed concern that only a very small number of States currently have longitudinal data systems with the capacity to link and share data among education and employment systems. Some commenters stated that State longitudinal data systems are in relatively early stages of development and that several States face barriers regarding the collection of employment data based on a system requiring Social Security Numbers or some other unique student identifiers. One commenter recommended that we allow States to use alternative data collection methods that are capable of yielding the necessary data. Another commenter questioned whether the use of a longitudinal data system should be an eligibility requirement for the program, as the data collection period for the program may not be long enough to follow students through a full POS experience into employment for a sufficient period of time to allow a demonstration of impact. The commenter also cautioned that the POS concept should not be interpreted as a failure based on the lack of data, and/or misinterpretation or misrepresentation of data.

Discussion: We agree that a lack of data should not be interpreted as failure of the POS concept, which is why States receiving grant awards under this program must have valid and reliable means of collecting data on a variety of outcomes for participating students. However, as we stated in the NPP, we expect the primary focus of this program to be on the evaluation of the impact of participation in a POS on enrolled students. As we also noted in the NPP, we recognize that States are at different stages in developing the capacity to link and share necessary information among data systems and we recognize that the development of statewide longitudinal data systems is a complex and costly process. To address our need for valid and reliable data while recognizing the States' need for flexibility in demonstrating how they would collect the necessary data, we are revising the Capacity of Statewide Longitudinal Data System requirement to clarify that States may use documented alternative valid and reliable methods for collecting student-level employment outcome data. We are also revising selection criteria (b), Capacity of statewide longitudinal data system, and (f), Evaluation, to reflect the change related to the collection of individual student employment outcome data.

Changes: We have made the following changes to the requirements and selection criteria:

• We have revised paragraph (e) of the Capacity of Statewide Longitudinal Data System requirement to clarify that States may collect individual student employment outcome data using documented valid and reliable alternative methods such as surveys that have, at a minimum, a 70 percent response rate.

• We have revised the Evaluation requirement to reflect that States are permitted to use any documented valid and reliable alternative method for collecting individual student employment outcome data.

• We have revised paragraph (b)(1)(v) of selection criterion (b), Capacity of statewide longitudinal data system, to indicate that, States may collect individual student employment outcome data using documented valid and reliable alternative methods such as surveys that have, at a minimum, a 70 percent response rate.

• We have revised paragraph (f)(4) of selection criterion (f), Evaluation, to indicate that States may use any documented valid and reliable alternative methods for collecting individual student employment outcome data.

Comment: One commenter stated that the requirement that a State implement its selected POS in at least one urban, one suburban, and one rural LEA would be too restrictive because some States have only one LEA. Another commenter noted that in some instances, an entire State would be considered rural, which would make it difficult for the State to implement the selected POS in all three types of communities. Another commenter requested clarification as to whether one LEA would be required to implement the POS in all three types of communities—urban, suburban, and rural.

Discussion: It was not our intent to require each participating LEA to implement the selected POS in all three types of communities. We intended this requirement to apply to States, rather than LEAs, and are revising the requirement accordingly. We also recognize that there may be circumstances that preclude a State from implementing the selected POS in at least one urban, suburban, and rural community. In that regard, the requirement provides that to the extent feasible, the applicant must implement the POS in at least one of each of these types of communities. Where implementation of the POS in each of these types of communities is not feasible the applicant must describe those circumstances in its application.

It was not our intent to exclude States that have a single LEA from eligibility under this program. We are revising the Local Implementation requirement to provide that States with a single LEA must implement the selected POS in at least three high schools, in concert with at least one of the LEA's postsecondary partners and that all requirements that apply to LEAs apply to the participating high schools and their postsecondary partners.

Changes: We have revised the Local Implementation requirement to clarify that, to the extent feasible, the State, not the LEA, must implement the selected POS in at least one urban, one suburban, and one rural community and where circumstances preclude a State from serving at least one of each of these types of communities, the applicant must provide an explanation in its application. We have also provided in this requirement that States with a single LEA must implement the selected POS in at least three high schools, in concert with at least one of the LEA's postsecondary partners and that all requirements that apply to LEAs apply to the participating high schools in the single LEA and their postsecondary partners.

We also have revised selection criterion (c), Local implementation plan, by modifying paragraph (2) and adding a new paragraph (6) to conform to these changes.

Comment: Two commenters opposed the Existing Technical Skills Assessments requirement because of the high cost of developing such assessments. One commenter recommended that applicants be permitted to use a small percentage of the grant funds to promote the development of third-party assessments, if appropriate.

Discussion: Because we recognize that assessment development can be both costly and time-consuming, we have retained the Existing Technical Skills Assessment requirement without change. The requirement is for use of technical skills assessments that are already in existence, not for the development or use of new assessments. Based on other comments we received on the NPP and other sources of information,³ which indicate that technical skill assessments are used by 45 States at the secondary level and 32 States at the postsecondary level, we have concluded that both reliable and validated third-party technical skills assessments based on industry standards, and State-developed technical skills assessments are in existence, and therefore, that applicants do not need a portion of the grant funds to develop new third-party assessments.

³ See the State profiles for CTE programs at: http://cte.ed.gov/stategrants/stateprofiles.cfm

Changes: None.

Comment: One commenter inquired about the level of funding for the proposed grants and on the number of States that would be awarded grants under any competition under this program. Two commenters recommended that, at a minimum, grantees would need a five-year project period to follow students through a full POS experience and show impact. The five years would include two years of secondary education, two years of postsecondary education, and one year in the workplace.

Discussion: Information regarding the estimated number of grants to be awarded, the estimated level of funding, and the length of the project period is in the notice inviting applications for this program that is published elsewhere in this issue of the Federal Register. We have established a four-year project period for this program because the Act is scheduled to expire in 2012. Subject to the availability of funds, we will use funds appropriated under the Act through FY 2012 to support initial and continuation grant awards to States selected for funding under this competition, for a total of four years. However, during year 4 of the project, we will assess the substantive progress made by the program grantees to determine appropriate next steps in our support of CTE POSs.

Changes: None.

Comment: One commenter questioned whether the postsecondary performance measurement data for these grants would include data on postsecondary CTE students who had entered the POSs in the years prior to the awarding of the grant.

Discussion: The performance measures that are identified in the Evaluation requirement include a measure regarding postsecondary credential, certificate, or diploma attainment. Additionally, we will require grantees to collect baseline data on postsecondary students who have not had the benefit of participating in a POS aligned with the 10 Framework components in order to compare the outcomes for those students with the outcomes for students who participate in a POS aligned with the 10 Framework components. We are revising the Evaluation requirement to make this clear. We will address this and other issues concerning evaluation and data collection under this program at the required Project Evaluation Design meeting in Washington, DC.

Changes: We have revised the Evaluation requirement to specify that States will be required to collect baseline data on postsecondary students who have not had the benefit of participating in a POS aligned with the 10 Framework components.

Comment: One commenter requested clarification as to how we would provide technical assistance to the funded States.

Discussion: We will make awards under the Rigorous Programs of Study program under the terms of a cooperative agreement in order to maintain substantial involvement in the implementation of funded projects and to provide close Department oversight of project activities. In addition, we will provide technical assistance to States receiving grant awards for this program through the Project Evaluation Design meeting, annual POS grantee meetings, and the National Research Center for Career and Technical Education.

Changes: None.

Comment: One commenter recommended that the Department provide funding to support a three-year study to determine the success of POS implementation at the pilot sites, including the effectiveness of the articulation agreements among secondary, two-year postsecondary, and four-year postsecondary institutions.

Discussion: We agree with the commenter that such agreements are important for the successful implementation of POSs and articulation agreements—referred to in this notice as “credit transfer agreements”—are among the 10 required Framework components that all participating LEAs must have in place when implementing their POSs. However, we do not intend to use funds under this competition to support a three-year study to determine the success of POS implementation at pilot sites, including the effectiveness of the articulation agreements among secondary, two-year postsecondary, and four-year postsecondary institutions. Rather the primary focus of this program is the evaluation of the impact of participation in a POS on enrolled students.

Changes: None.

Comment: One commenter stated that the Department should focus funding and accountability efforts on building a seamless POS program that covers kindergarten through a four-year postsecondary degree program.

Discussion: Section 122(c)(1)(A) of the Act specifies that CTE POSs must—incorporate secondary and postsecondary elements; align secondary education with postsecondary education; offer secondary students the opportunity to earn postsecondary credits; and lead to a postsecondary credential, certificate, or degree. Because the requirements of the Act for CTE POSs reference only secondary and postsecondary education, this program focuses on POSs that encompass grades 9 through 16 and secondary education through postsecondary degree programs. Accordingly, we cannot expand the requirements for this program to include the elementary school grades.

Changes: None.

Comment: One commenter observed that two-year institutions sometimes establish geographic areas of services that are barriers to Statewide POS development, and such service areas should be eliminated.

Discussion: The geographic areas that are served by community or technical colleges are not determined by the Department but, rather, by the States, the postsecondary institutions themselves, or both. The determination of which geographical area is to be served by which community or technical college is not one for the Department. It is a State matter.

Changes: None.

Comment: One commenter recommended that the Department fund the development of POSs in technical areas aligned with economic trends and future innovative fields.

Discussion: Applicants under this program have the flexibility to select a POS that the State has developed for an emerging field in response to labor market data and economic and workforce trends, so long as the selected POS is built and sustained with the 10 Framework components and so long as the LEAs chosen for participation in the POS project have all 10 Framework components in place to support the POS either at the start of the POS project or no later than the beginning of year 2 of the project.

Changes: None.

Comment: One commenter recommended that funding be provided for teachers and administrators to obtain real world exposure to the workplace, and to work collaboratively to align curricula to meet industry, two-year degree, and four-year degree requirements.

Discussion: We agree with the commenter that it may be beneficial for teachers and administrators to obtain real world exposure to the workplace so that teachers are better equipped to implement curricula that are aligned with industry and degree requirements. Paragraph (c) of the Selected Program of Study requirement provides for the POS to include sustained, intensive, and focused professional development opportunities for administrators, teachers, and faculty that foster POS design, implementation, and maintenance. An applicant is free to include in its proposal professional development that includes real-world exposure to the workplace.

Changes: None.

Comment: One commenter asked if funding could be used to implement a selected POS in at least eight secondary, four postsecondary two-year, and four postsecondary four-year pilot sites for a total of 16 sites in a given State.

Discussion: Under the Local Implementation requirement, States are required to implement the selected POS in at least three LEAs that contain high schools, in concert with at least one of the LEA's postsecondary partners. At a minimum, each of the three participating LEAs must implement the selected POS in at least one high school and in at least one postsecondary institution (either two-year or four-year). Because these are minimal requirements only, nothing would preclude an applicant from proposing to implement the selected POS in additional sites.

We are revising the requirement to specify that an applicant's implementation of the selected POS must be in concert with “at least one of” rather than “each of” the LEA's postsecondary partners to clarify the minimum criteria for implementation of the POS at the secondary and postsecondary levels.

Changes: We have revised the Local Implementation requirement to specify that implementation of the POS must be in concert with at least one of the LEA's postsecondary partners, i.e., at least one postsecondary institution (either two-year or four-year).

Comment: One commenter expressed concern that small States may have insufficient State leadership funds to use to meet the 30 percent match specified in the competitive preference priority and so would be unable to compete for additional points under that priority.

Discussion: While we agree with the commenter that some States may have insufficient State leadership matching funds, under the final priority, applicants may also choose to meet the priority by obtaining non-Federal private contributions, including in-kind contributions, such as facilities, equipment, supplies, services, and other resources, to make the 30 percent contribution.

Changes: None.

Comment: One commenter noted that, because some States do not administer their education programs under legislation but rather under administrative rules and regulations, such rules and regulations should be referenced in paragraph (a), Legislation, Resources, and Policies, under the Selected Program of Study proposed requirement.

Discussion: We agree with the commenter and are revising paragraph (a) of the Selected Program of Study requirement regarding legislation and policies to include a reference to rules and regulations.

Changes: We have revised paragraph (a) of the Selected Program of Study requirement, and paragraph (a)(3)(i) of selection criterion (a), State capacity to implement a rigorous program of study, to add references to rules and regulations.

Comment: One commenter recommended that partnerships among secondary, postsecondary, and business and industry be a requirement for the design and implementation of CTE POSs.

Discussion: Paragraph (b) under the Selected Program of Study requirement requires ongoing relationships among education, business, and other community stakeholders that support POS design, implementation, and maintenance. Because section 122(c)(1)(A) of the Act clearly describes POSs as encompassing both secondary and postsecondary education, we require both secondary and postsecondary education stakeholders, along with business and other community stakeholders to participate in the partnership. Further, it is the responsibility of the applicant to identify the specific members of the partnership and to describe the ongoing relationships among them.

Changes: None.

Comment: None.

Discussion: In developing the NFP, we considered the various types of education community stakeholders that could support POS design, implementation, and maintenance in an ongoing partnership, as provided for in paragraph (b) of the Selected Program of Study requirement. Although we are not providing examples of specific education community stakeholders in the text of the requirement, we clarify here that education community stakeholders could include secondary and postsecondary public and private school officials.

Changes: None.

Comment: One commenter requested clarification regarding the performance measures for which States receiving grant awards under this program would be required to collect data.

Discussion: States receiving grant awards under this program will be required to collect and report data annually on the seven performance measures required for this program that are listed under the Evaluation requirement.

Changes: None.

Comment: One commenter identified inconsistencies in wording between the Framework and the proposed requirements and selection criteria, and requested clarification.

Discussion: Currently, several national associations, organizations, and States are using the Framework as a means of providing technical assistance or as a self-assessment tool. Because we used the 10 Framework components to develop the requirements and selection criteria for this program, we found it necessary to make several changes in wording to adapt it for that purpose. To maintain as much consistency as possible, we are revising the headings under the Selected Program of Study requirement to conform to those in the Framework.

Changes: We have revised the headings under the Selected Program of Study final requirement to align them with the 10 Framework components.

Comment: One commenter expressed concern that the POS Framework is being used as the only assessment tool for POSs and recommended that the Secretary permit other assessment tools to be used.

Discussion: Under this program, we are requiring States receiving grant awards to use the 10 Framework components in order to ensure the rigor of funded POSs; to evaluate the effectiveness of each of the 10 Framework components in each participating LEA; and to use a self-assessment instrument based on the 10 Framework components as part of each State's project evaluation. However, nothing would preclude a grantee from using other appropriate assessments, in addition to the Framework, that would yield relevant information on the implementation and effectiveness of the selected POS.

Changes: None.

Final Priority

Commitment to the Project

The Assistant Secretary for Vocational and Adult Education establishes a priority for applications that propose to contribute funds from other sources to the total cost of the project. To meet this priority, the applicant must propose a budget that describes how the State will contribute 30 percent of the total cost of the project from other sources. For these purposes, the applicant may use--

(a) State leadership funds awarded under section 111 of the Act and as specified in section 112(a)(1) of the Act;

(b) Non-Federal contributions including in-kind contributions such as use of facilities, equipment, supplies, services, and other resources; or

(c) A combination of State leadership funds and non-Federal contributions.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority preference over other applications (34 CFR 75.105(c)(1)).

Final Requirements

The Assistant Secretary for Vocational and Adult Education establishes the following requirements for this program. We may apply one or more of these requirements in any year in which this program is in effect.

Selected Program of Study: To be eligible for funding an applicant is required to demonstrate that it has selected for implementation a State-developed or State-approved POS that is built and sustained with all of the following 10 Framework components:

(a) Legislation and Policies: State and local legislation, rules and regulations, or administrative policies that promote POS development and implementation;

(b) Partnerships: Ongoing relationships among education, business, and other community stakeholders that support POS design, implementation, and maintenance;

(c) Professional Development: Sustained, intensive, and focused professional development opportunities for administrators, teachers, and faculty that foster POS design, implementation, and maintenance;

(d) Accountability and Evaluation Systems: Accountability and evaluation systems and strategies that gather quantitative and qualitative data on both POS components and student outcomes in order to inform ongoing efforts to develop and implement POSs and to determine their effectiveness;

(e) College- and Career-Readiness Standards: POS content standards that define what students are expected to know and be able to do to enter and advance in college, their careers, or both, and that include aligned academic and technical content;

(f) Course Sequences: Course sequences within a POS that help students transition to postsecondary education without needing to duplicate classes or enroll in remedial courses.

(g) Credit Transfer Agreements: Formal credit transfer agreements among secondary schools and postsecondary institutions;

(h) Guidance Counseling and Career Advisement: Systems that provide career counseling and academic advisory services to help students make informed decisions about which POS to pursue;

(i) Teaching and Learning Strategies: Innovative and creative instructional approaches that enable teachers to integrate academic and technical instruction and also enable students to apply academic and technical learning in their POS coursework; and

(j) Technical Skills Assessments: Existing valid and reliable technical skills assessments that provide ongoing information on the extent to which students are attaining the necessary knowledge and skills for entry into and advancement in postsecondary education and careers in their chosen POS.

Each of these 10 components of the Framework has unique sub-components. The sub-components for each of the 10 Framework components are in paragraph (a)(3) of selection criterion (a), State capacity to implement a rigorous program of study. Each State and its participating LEAs must use all 10 Framework components, must use each of the sub-components of the 10 Framework components that the State deems relevant to the selected POS, and must explain how it plans to support the selected POS using the relevant sub-components.

Existing Technical Skills Assessments: Applicants must propose a project to implement a State-developed or State-approved POS for which valid and reliable technical skills assessments (either third-party industry-recognized assessments, or State-developed or State-approved technical skills assessments based on industry standards that grant high school or postsecondary credit, or both) have been developed.

Local Implementation: The applicant must propose a project to implement the selected POS in at least three LEAs that contain high schools, in concert with at least one of the LEA's postsecondary partners, i.e., at least one postsecondary institution (either two-year or four-year). If a participating LEA contains more than one high school, the LEA must implement the selected POS in at least one of its high schools. To the extent feasible, the State must implement the selected POS in at least one urban, one suburban, and one rural community within the State, and where circumstances preclude a State from serving at least one of each of these types of communities, provide an explanation in its application. To be eligible for funding an applicant is required to demonstrate that the LEAs chosen for participation in the POS project have the capacity to have all 10 Framework components in place either at the start of the POS project or no later than the beginning of year 2 of the project. The applicant must include a letter of commitment from each LEA, expressing its interest in participating in the project and its commitment to implement the selected POS as prescribed by the State in years 2 through 4 of the project and to maintain constancy in the implementation of the selected POS. During year 1 of the project, CTE staff from the funded States must provide technical assistance to their participating LEAs in order to strengthen weak Framework components or incorporate missing components, so that all 10 Framework components are in place to support the POS when it is implemented at the LEA level. The participating LEAs must implement the selected POS during years 2 through 4 of the project, beginning at the start of the academic year corresponding to year 2 of the project. The applicant must include a plan that describes how CTE State staff will continue to work closely with the LEAs throughout the project period, and provide technical assistance and support to ensure constancy in the implementation of the selected POS in the participating LEAs.

Applicants in States that have a single LEA must implement the selected POS in at least three high schools, in concert with at least one of the LEA's postsecondary partners, i.e., at least one postsecondary institution (either two-year or four-year). To the extent feasible, the participating three high schools must represent urban, suburban, and rural communities and, where circumstances preclude a State from serving at least one of each of these types of communities in its three participating high schools, the State must provide an explanation in its application. All requirements that apply to LEAs in this notice would apply to the participating high schools and their postsecondary partner(s).

Evaluation: Applicants must propose to conduct an annual evaluation of the project to assess the constancy of the implementation of the selected POS in the participating LEAs and the effectiveness of each of the 10 Framework components. To ensure consistency of implementation across the selected LEAs, CTE staff from the funded States must use a self-assessment instrument based on the 10 Framework components as part of the grant's project evaluation.

Applicants must also use student outcome data to assess the progress of students enrolled in each selected POS. To ensure consistency across the funded States, State staff must attend a POS Evaluation Design meeting in Washington, DC, following their receipt of the grant award, to discuss and possibly refine the grantee self-assessment tools related to the 10 Framework components that are developed by the grantees, and to work with OVAE and with each other to develop a plan for the States' use of student outcome data to assess the progress of students enrolled in each selected POS. This meeting will address evaluation and data collection issues, such as, student definitions; the number of students to be selected and the method of student selection to be followed; strategies for comparing outcomes for students who participate in the POS to other students who do not; the identification of potential comparison groups through the States' longitudinal data systems, including any documented valid and reliable alternative method of collecting individual student employment outcome data; and the timing of reporting. After the meeting, we will include the agreed-upon plan for the State's use of the student outcome data as an addendum to each grantee's cooperative agreement.

In addition to requiring applicants to use student outcome data to assess the progress of students enrolled in each selected POS, the State must collect baseline data on postsecondary students who have not had the benefit of participating in a POS aligned with the 10 Framework components in order to compare the outcomes for those students with the outcomes for students who participate in a POS aligned with the 10 Framework components. The State must also collect and report data annually on the following seven performance measures, which are based on the indicators of performance required under section 113(b) (State Performance Measures) and section 203(e) (Tech Prep Indicators of Performance and Accountability) of the Act:

(a) Secondary school completion. The percentage of secondary students participating in the POS supported by the grant award who earn a high school diploma.

(b) Technical skills attainment. The percentage of secondary students participating in the POS supported by the grant award who attain technical skills.

(c) Earned postsecondary credit during high school. The percentage of secondary students participating in the POS supported by the grant award who earn postsecondary credit.

(d) Enrollment in postsecondary education. The percentage of secondary students participating in the POS supported by the grant award who enroll in postsecondary education by the fall following high school graduation.

(e) Enrollment in postsecondary education in a field or major related to the secondary POS. The percentage of secondary students participating in the POS supported by the grant award who enroll in a postsecondary education program in a field or major related to the participant's secondary POS.

(f) Need for developmental course work in postsecondary education. The percentage of secondary students participating in the POS supported by the grant award who enroll in one or more postsecondary education developmental courses.

(g) Postsecondary credential, certificate, or diploma attainment. The percentage of secondary students participating in the POS supported by the grant award who attain an industry-recognized credential, certificate, or associate's degree, within two years following enrollment in postsecondary education.

Capacity of Statewide Longitudinal Data System: Applicants must propose the use of a longitudinal data system that has the capacity to link and share data among systems housing different types of data, in order to collect valid and reliable data on the required performance measures identified in the Evaluation requirement. The longitudinal data system must contain, at a minimum, the elements listed below, which elements are consistent with section 6401(e)(2)(D) of the America COMPETES Act (Pub. L. 110-69):

(a) Statewide unique student identifiers;

(b) Student-level enrollment data;

(c) Student-level course completion (transcript) data;

(d) The ability to match student-level secondary and postsecondary data;

(e) The ability to match student-level data to employment outcome data, using—

(1) Unemployment Insurance (UI) wage records, or

(2) Documented valid and reliable alternative methods such as surveys that have, at a minimum, a 70 percent response rate;

(f) A State data audit plan to verify that the education data are valid and reliable; and

(g) An assurance that the use of data will be consistent with the requirements and protections contained in the Family Educational Rights and Privacy Act (FERPA).

Dissemination: Applicants must propose to implement a dissemination plan for the project. The plan must include the development and maintenance of a project Web page for posting project materials, such as: Materials describing the State's process for approving POSs submitted by local recipients of funds; curricula developed for the selected POS; technical assistance materials provided to the participating LEAs and to other local recipients of funds, if applicable; professional development materials; materials describing evaluation results, including performance data on the required performance measures based on the indicators of performance; and other materials containing practical information that would be useful to other States in their efforts to implement and evaluate POSs. Applicants must also participate in POS activities sponsored by the Department, such as annual POS grantee meetings in which grantees describe the progress of their projects and discuss common issues, strategies, and models of best practices; OVAE/POS grantee presentations at the States' Annual National Career Clusters Institutes; OVAE/POS grantee presentations at annual NASDCTEc meetings; and presentations at OVAE-sponsored data quality meetings.

Cooperative Agreement: We plan to make each award to grantees under this program under the terms of a cooperative agreement. We expect to work closely with the funded States to maintain substantial involvement in project implementation, and to provide oversight on project activities by working collaboratively to develop a plan for the use of student outcome data, reviewing and approving project activities, reviewing and approving one stage of work before the grantee can begin a subsequent stage during the project period, and halting an activity if it is not consistent with the program requirements.

Final Selection Criteria

The Assistant Secretary establishes the following selection criteria for evaluating an application under a POS competition. We may apply one or more of these criteria in any year in which we hold a competition under this program. In the notice inviting applications published elsewhere in this issue of the Federal Register, in the application package, or in both, we announce the maximum possible points assigned to each criterion.

(a) State capacity to implement a rigorous program of study: In determining the applicant's capacity to implement a rigorous POS, we review each application to determine the extent to which:

(1) The applicant proposes to build on existing State initiatives and partnerships in implementing the proposed project.

(2) The applicant selects a POS that will provide training leading to high-growth, high-demand, or high-wage occupations as determined through analysis of the national, State, or local labor market.

(3) The applicant provides evidence that it has selected a State-developed or State-approved POS that is built and sustained with the 10 Framework components identified in paragraphs (i) through (x); that it has identified which of the sub-components from among those listed under each Framework component are relevant to the selected POS; and that it plans to use those relevant sub-components in its POS and explains how it proposes to do so.

(i) State and local legislation, rules and regulations, or administrative policies that promote POS development and implementation, such as—

(A) The allocation of State or local funding (and other non-Federal resources) designed to promote POS development and long-term sustainability;

(B) The use of established, formal procedures for the design, implementation, and continuous improvement of POSs;

(C) Adherence to policies that ensure opportunities for any interested secondary student to participate in a POS; and

(D) The use of individual graduation or career plans for participating students.

(ii) Ongoing relationships among education, business, and other community stakeholders that support POS design, implementation, and maintenance, such as by—

(A) Using written memoranda that specify the roles and responsibilities of partnership members;

(B) Conducting ongoing analyses of economic and workforce trends to identify POSs that should be created, expanded, or, if appropriate, discontinued;

(C) Linking POS development to existing initiatives that promote workforce and economic development; and

(D) Identifying, validating, and updating technical and workforce readiness skills to be taught within POSs.

(iii) Sustained, intensive, and focused professional development opportunities for administrators, teachers, and faculty that foster POS design, implementation, and maintenance, and that—

(A) Support the alignment of academic and technical curriculum within the POS from grade to grade (within grades 9 through 12) and from secondary to postsecondary education;

(B) Support the development of integrated academic and CTE curriculum and instruction within the POS;

(C) Ensure that teachers and faculty have the necessary content knowledge to align and integrate curriculum and instruction within the POS;

(D) Foster innovative teaching and learning strategies within the POS; and

(E) Assist administrators, teachers, and faculty to use assessment data for POS program and instructional improvement.

(iv) Accountability and evaluation systems and strategies that gather quantitative and qualitative data on all 10 Framework components as well as on student outcomes to inform ongoing efforts to develop and implement POSs and to determine their effectiveness, and that—

(A) Yield valid and reliable data on key student outcomes (indicators of performance) referenced in the Act and other relevant Federal and State legislation; and

(B) Provide timely data to inform ongoing efforts to develop, implement, evaluate, and improve the effectiveness of POSs.

(v) POS content standards that define what students are expected to know and be able to do to enter and advance in college, their careers, or both, and that include aligned academic and technical content, and that—

(A) Are developed and continually validated in collaboration with secondary, postsecondary, and industry partners;

(B) Incorporate essential knowledge and skills that students must master regardless of their chosen career area or POS;

(C) Provide the same rigorous knowledge and skills in reading or language arts and in mathematics that employers and colleges expect of high school graduates; and

(D) To the extent practicable, are internationally benchmarked so that students are prepared to succeed in a global economy.

(vi) Course sequences within a POS that help students transition to postsecondary education without the need to duplicate classes or enroll in remedial courses, as evidenced by—

(A) Course sequence plans that map out recommended academic and career and technical courses for the POS;

(B) Course sequence plans that begin with introductory courses that provide broad foundational knowledge and skills common across all POSs and then progress to more occupationally specific courses that provide the knowledge and skills required for entry into and advancement in the selected POS; and

(C) Opportunities for students to earn postsecondary credit for coursework taken during high school.

(vii) Formal credit transfer agreements among secondary schools and postsecondary institutions that—

(A) Provide a systematic, seamless process for students to earn college credit for postsecondary courses taken in high school, transfer high school credit to any two- or four-year institution in the State that offers the POS, and transfer credit earned at a two-year college to any other two- or four-year institution in the State that offers the POS;

(B) Record college credit earned by high school students on their high school transcripts at the time the credit is earned so that they can transfer seamlessly into the college portion of the POS without the need for additional paperwork or petitioning for credit; and

(C) Describe the expectations and requirements for teacher and faculty qualifications, course prerequisites, postsecondary entry requirements, locations of courses, tuition reimbursement, and the credit transfer process.

(viii) Systems that provide career counseling and academic advisory services to help students make informed decisions about which POS to pursue and that—

(A) Are based on State or local guidance and counseling standards, such as the National Career Development Guidelines;

(B) Ensure that guidance counselors and academic advisors have access to up-to-date information about POS offerings to aid students in their decision-making;

(C) Offer information and tools to help students learn about postsecondary education and career options, including about the prerequisites for particular POSs;

(D) Provide resources for students to identify career interests and aptitudes and to select an appropriate POS;

(E) Provide information and resources for parents, including workshops on college and financial aid applications, on helping their children prepare for college and careers; and

(F) Provide Web-based resources and tools for obtaining student financial assistance.

(ix) Innovative and creative instructional approaches that enable teachers to integrate academic and technical instruction and also enable students to apply academic and technical learning in their POS coursework, as evidenced by—

(A) Interdisciplinary teaching teams of academic and career and technical secondary teachers or postsecondary faculty;

(B) The use of contextualized work-based, project-based, and problem-based learning approaches; and

(C) The use of teaching strategies that foster team-building, critical thinking, problem-solving, and communication skills.

(x) Existing valid and reliable technical skills assessments that provide ongoing information on the extent to which students are attaining the necessary knowledge and skills for entry into and advancement in postsecondary education and careers in their chosen POS and that—

(A) Are either third-party assessments recognized by industry or are technical skills assessments developed or approved by the State that are based on industry standards;

(B) Measure student attainment of technical skill proficiencies at multiple points during a POS;

(C) Incorporate, to the greatest extent possible, performance-based assessment items through which students must demonstrate the application of their knowledge and skills; and

(D) Result in the awarding of secondary credit, postsecondary credit, or special designation on a student's high school diploma.

(b) Capacity of statewide longitudinal data system: In determining the State's capacity to collect longitudinal data on a variety of secondary, postsecondary, and employment outcomes for individual students in order to assess the progress of students enrolled in the selected POS, we review each application to determine the extent to which:

(1) The State's longitudinal data system contains, at a minimum, the following elements—

(i) Statewide unique student identifiers;

(ii) Student-level enrollment data;

(iii) Student-level course completion (transcript) data;

(iv) The ability to match student-level secondary and postsecondary data;

(v) The ability to match student-level data with employment outcome data, using—

(A) Unemployment Insurance (UI) wage records; or

(B) Documented valid and reliable alternative methods such as surveys that have, at a minimum, a 70 percent response rate; and

(vi) A State data audit plan to verify that the education data are valid and reliable.

(2) The applicant provides evidence that project staff will be able to work cooperatively with State data specialists and to access the student outcome data needed to meet annual evaluation and reporting requirements for the POS project.

(c) Local implementation plan: In determining the quality of the plan for local implementation of the selected POS, we review each application to determine the extent to which—

(1) The applicant identifies each of the LEAs it has selected for local implementation of the POS and provides evidence of each LEA's capacity to implement the selected POS and the 10 Framework components, either at the start of the POS project or no later than the beginning of year 2 of the project, as well as the estimated number of students who would participate in the POS in years 2 through 4 of the project, by grade level;

(2) To the extent feasible, the participating LEAs represent urban, suburban, and rural communities, and where circumstances preclude a State from serving at least one of each of these types of communities, the State has provided an explanation in its application;

(3) For participating LEAs prepared to incorporate all 10 elements of the Framework in years 2 through 4 of the project, the applicant includes a letter of commitment from each LEA, expressing its interest in participating in the project and its commitment to implementing the selected POS as prescribed by the State in years 2 through 4 of the project and to maintain constancy in the implementation of the selected POS;

(4) For participating LEAs that do not have all 10 Framework components in place at the start of the project, the applicant outlines the specific actions it will take to ensure that weak or missing Framework components are strengthened or created so that all 10 Framework components are in place at those LEAs and the LEAs are ready to implement the POS by the beginning of the academic year corresponding to year 2 of the project;

(5) The applicant outlines a plan to provide ongoing oversight and technical assistance to the participating LEAs throughout the project period, to ensure constancy in the implementation of the selected POS across the participating LEAs; and

(6) An applicant in a State that has a single LEA outlines a plan—

(i) To implement the selected POS in at least three high schools, in concert with at least one of the LEA's postsecondary partners, i.e., at least one postsecondary institution (either two-year or four-year); and

(ii) To the extent feasible, the participating three high schools represent urban, suburban, and rural communities and, where circumstances preclude a State from serving at least one of each of these types of communities in its three participating high schools, the State has provided an explanation in its application.

(d) Project management. In determining the quality of the management plan for the proposed project, we review each application to determine the extent to which—

(1) The management plan incorporates, at a minimum, each of the requirements included in this notice and identifies specific and measurable objectives and tasks to be undertaken to accomplish each project activity;

(2) The management plan assigns responsibility for the accomplishment of project tasks to specific partners or project personnel and provides timelines that will result in the timely completion of all required project activities within each phase of the project;

(3) The Project Director and other key personnel clearly have the professional qualifications and experience necessary to implement their assigned project tasks; and

(4) The time commitments of the Project Director, key personnel, and partners are appropriate to the tasks assigned.

(e) Adequacy of resources. In determining the adequacy of resources for the proposed project, we consider the following factors:

(1) The adequacy of support to be provided (i.e., facilities, equipment, supplies, or other resources) by participating agencies and institutions at the State and local levels.

(2) Whether the budget is appropriate and the costs are reasonable in relation to the objectives and design of the proposed project.

(f) Evaluation: In determining the quality of the proposed project evaluation, we review each application to determine the extent to which—

(1) The proposed project evaluation is feasible and appropriate for evaluating the constancy of the implementation of the selected POS by the participating LEAs in years 2 through 4 of the project;

(2) The proposed evaluation is feasible and appropriate for evaluating the effectiveness of each of the 10 Framework components in each LEA;

(3) The proposed evaluation will be conducted by individuals or entities that possess the necessary background and expertise in project evaluation; and

(4) The applicant expresses its commitment to participate in the Department's Evaluation Design Meeting and has included suggestions regarding the use of student outcome data that it would be able to access through the State's longitudinal data system, including any documented valid and reliable alternative methods for collecting individual student employment outcome data, to assess the progress of students enrolled in the POS.

This notice does not preclude us from proposing additional priorities, requirements, definitions, or selection criteria, subject to meeting applicable rulemaking requirements.

Note: This notice does not solicit applications. In any year in which we choose to use one or more of these priorities, requirements, and selection criteria, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority, requirements, and selection criteria justify the costs. This action would provide additional resources to States to help them implement an existing statutory requirement under the Act, the implementation of programs of study at the State and local levels.

We have determined, also, that this final regulatory action does not unduly interfere with State, local, and tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: August 3, 2010.
Brenda Dann-Messier,
Assistant Secretary for Vocational and Adult Education.

[FR Doc. 2010-19487 Filed 8-5-10; 8:45 am]

BILLING CODE 4000-01-P